DEPARTMENT OF JUSTICE

Office of Justice Programs

Agency Information Collection Activities: Proposed Collection; Comments Requested

ACTION: 60-day notice of information collection under review: Crime Victim Compensation State Certification Form Request.

The Department of Justice (DOJ), Office of Justice Programs (OJP), Office for Victims of Crime (OVC) has submitted the following information collection request to the Office of Management and Budget (OMB) for review and approval in accordance with the Paperwork Reduction Act of 1995. The proposed information collection is published to obtain comments from the public and affected agencies. Comments are encouraged and will be accepted for “sixty days” until November 14, 2005. The process is conducted in accordance with 5 CFR 1320.10.

If you have comments, especially on the estimated public burden or associated response time, suggestions, or need a copy of the proposed information collection instrument with instructions or additional information, please contact Jeff Kerr at (202) 616-3581, Office for Victims of Crime, Office of Justice Programs, U.S. Department of Justice, 810 7th Street, NW., Washington, DC 20531.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Reinstatement, without change, of a previously approved collection of which approval has expired.

(2) Title of the Form/Collection: Crime Victim Compensation State Certification Form.

(3) Agency Form Number, if Any, and the Applicable Component of the Department of Justice Sponsoring the Collection: Form Number: 7390/5, Office of Justice Programs, Office for Victims of Crime.

(4) Affected Public Who Will Be Asked or Required To Respond, as Well as a Brief Abstract: Primary: State, Local, Tribal Government. The Victims of Crime Act (VOCA), as amended, and the Victim Compensation Program Guidelines require each crime victim compensation program to submit an annual Crime Victim Compensation Certification Form. Information received for each program will be used to calculate the annual formula/block grant amount for the VOCA state crime victim compensation programs. The information is aggregated and serves as supporting documentation for the Director's biennial report to the Congress.

(5) An Estimate of the Total Number of Respondents and the Amount of Time Estimated for an Average Respondent To Respond: It is estimated that 54 respondents will complete the form within approximately 1 hour.

(6) An Estimate of the Total Public Burden (in Hours) Associated With the Collection: There are an estimated 54 total burden hours associated with this collection.

If additional information is required contact: Brenda E. Dyer, Department Clearance Officer, United States Department of Justice, Justice Management Division, Policy and Planning Staff, Patrick Henry Building, Suite 1600, 601 D Street, NW., Washington, DC 20530.

Dated: September 9, 2005.
Brenda E. Dyer,
Department Clearance Officer, Department of Justice.

[FR Doc. 05-18307 Filed 9-14-05; 8:45 am]

BILLING CODE 4410-18-P